DEPARTMENT OF JUSTICE

Office of the Attorney General

28 CFR Part 0

[Docket No. JMD165; AG Order No. 6570-2025]

Consolidation of the Office of the Executive Secretariat Into the Justice Management Division

AGENCY: Department of Justice.

ACTION: Final rule.

SUMMARY: This rule amends the Department's organizational regulations by eliminating the Office of the Executive Secretariat as a separate office and consolidating its functions within the Justice Management Division.

DATES: Effective December 29, 2025.

FOR FURTHER INFORMATION CONTACT: John E. Thompson, Deputy General Counsel, Justice Management Division; email: John.E.Thompson@usdoj.gov.

SUPPLEMENTARY INFORMATION:

I. Summary

On January 17, 2025, the Department of Justice published a final rule amending its organizational regulations to establish the functions of the Office of the Executive Secretariat (“OES”) which had been created as a separate component of the Department on August 17, 2023. Office of the Executive Secretariat, 90 FR 5608 (Jan. 17, 2025).

Upon further consideration of the best way to organize the Department and consistent with the Administration's deregulatory and streamlining initiatives, this rule rescinds the prior establishment of OES as a separate component. This rule restores its functions to a staff within the Justice Management Division, which had formerly performed those functions prior to the August 17, 2023, establishment of OES.

This rule also revises 28 CFR 0.1 to delete OES from the list of Department components.

II. Administrative Procedure Act

This rule is a rule of agency organization, procedure, and practice and is limited to matters of agency management and personnel. Therefore, it is not a substantive rule, and, as such, it is exempt from the requirements of prior notice and comment and a 30-day delay in the effective date. See 5 U.S.C. 553(a)(2), (b)(A), (d).

III. Regulatory Analyses

In developing this final rule, the Department considered numerous statutes and executive orders applicable to the rulemaking process. The Department's analysis of the applicability of those statutes and executive orders to this rule is summarized below.

A. Executive Order 12866 (Regulatory Planning and Review), Executive Order 13563 (Improving Regulation and Regulatory Review), and Executive Order 14192 (Unleashing Prosperity Through Deregulation)

This final rule is not a significant regulatory action under section 3(f) of Executive Order 12866, and as supplemented by Executive Order 13563. This rule is limited to agency organization, management, and personnel as described by Executive Order 12866, section 3(d)(3), and therefore is not a “regulation” or “rule” as defined by that Executive Order. Accordingly, this action has not been reviewed by the Office of Management and Budget.

Further, as this rule relates to agency organization, management, or personnel, it is fully exempt from the numerical 10-for-1 and cost offset requirements of Executive Order 14192.

B. Executive Order 14294 (Overcriminalization of Federal Regulations)

Executive Order 14294 requires agencies promulgating regulations with criminal regulatory offenses potentially subject to criminal enforcement to explicitly describe the conduct subject to criminal enforcement, the authorizing statutes, and the mens rea standard applicable to each element of those offenses. This final rule does not impose a criminal regulatory penalty and is thus exempt from E.O. 14924 requirements.

C. Regulatory Flexibility Act

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. 5 U.S.C. 601.

A Regulatory Flexibility Analysis is not required for this final rule because the Department is not required to publish a general notice of proposed rulemaking for this matter.

D. Paperwork Reduction Act

This final rule does not call for a new or revised collection of information under the Paperwork Reduction Act of 1995, 44 U.S.C. 3501-3520.

E. Executive Order 13132 (Federalism)

A rule has federalism implications under Executive Order 13132 if it has a substantial direct effect on the States, on the relationship between the national government and the States, or on the distribution of power and responsibilities among the various levels of government. E.O. 13132, sec. 1(a). The Department has analyzed this final rule under that Order and determined that this rule does not have federalism implications.

F. Unfunded Mandates Reform Act of 1995

The Unfunded Mandates Reform Act of 1995, 2 U.S.C. 1531-1538, requires Federal agencies to determine whether a rule, if promulgated, will result in the expenditure by State, local, or Tribal governments, in the aggregate, or by the private sector, of $100 million (adjusted annually for inflation) or more in any one year. 2 U.S.C. 1532(a). This final rule does not require or result in expenditures by any of the above-named entities.

G. Executive Order 12988 (Civil Justice Reform), Plain Language

This final rule meets applicable standards in sections 3(a) and 3(b)(2) of Executive Order 12988.

H. Executive Order 13175 (Consultation and Coordination With Indian Tribal Governments)

This final rule does not have Tribal implications under Executive Order 13175 because it would not have a substantial direct effect on one or more Indian tribes, on the relationship between the Federal Government and Indian tribes, or on the distribution of power and responsibilities between the Federal Government and Indian tribes.

I. Congressional Review Act

This rule relates to agency management, personnel, and organization, and does not substantially affect the rights or obligations of non-agency parties. 5 U.S.C. 804(3)(B), (C). This action is accordingly not a “rule” as that term is used in the Congressional Review Act, see 5 U.S.C. 804(3), and the reporting requirement of 5 U.S.C. 801 does not apply.

List of Subjects in 28 CFR Part 0

Authority delegations (Government agencies), Government employees, Organization and functions (Government agencies).

Authority and Issuance

For the reasons stated above, the Department of Justice amends 28 CFR Part 0 as follows:

PART 0—ORGANIZATION OF THE DEPARTMENT OF JUSTICE

1. The authority citation for part 0 continues to read as follows:

Authority: 5 U.S.C. 301; 28 U.S.C. 509, 510, 515-519.

§ 0.1 [Amended]

2. In § 0.1, amend table 1 by removing the entry for “Office of the Executive Secretariat.”

3. Amend § 0.77 by adding paragraph (p) to read as follows:

§ 0.77 Operational functions.

* * * * *

(p) Ensure that official documents requiring the review, approval, or signature by the Attorney General, Deputy Attorney General, or Associate Attorney General are assigned, tracked, and cleared within the Department of Justice, as appropriate; manage select interagency requests for official approval or concurrence by the Attorney General, Deputy Attorney General, or Associate Attorney General; Departmental clearances; and submissions from other agencies for review and clearance, including rulemakings and guidance documents circulated by the Office of Management and Budget pursuant to Executive Order 12866 or any successor order and documents circulated by the Department of State for clearance, within the Department of Justice.

Subpart O-1 [Removed]

4. Remove subpart O-1, including § 0.81.

Dated: December 19, 2025.
Pamela Bondi,
Attorney General.

[FR Doc. 2025-23880 Filed 12-23-25; 8:45 am]

BILLING CODE 4410-PR-P